DEPARTMENT OF ENERGY

Federal Energy Regulatory Commission

Combined Notice of Filings #2

Take notice that the Commission received the following electric rate filings:

Docket Numbers: ER10-2437-005.

Applicants: Arizona Public Service Company.

Description: Notice of Non-Material Change in Status of Arizona Public Service Company.

Filed Date: 4/26/16.

Accession Number: 20160426-5191.

Comments Due: 5 p.m. ET 5/17/16.

Docket Numbers: ER15-2256-004.

Applicants: Midcontinent Independent System Operator, Inc.

Description: Compliance filing: 2016-04-26 Order 809 Gas Day Compliance Filing to be effective 11/5/2016.

Filed Date: 4/26/16.

Accession Number: 20160426-5181.

Comments Due: 5 p.m. ET 5/17/16.

Docket Numbers: ER16-1501-000.

Applicants: Midcontinent Independent System Operator, Inc.

Description: Section 205(d) Rate Filing: 2016-04-26_SA 2406 NSP-Prairie Rose 2nd Rev. GIA (J183) to be effective 4/27/2016.

Filed Date: 4/26/16.

Accession Number: 20160426-5106.

Comments Due: 5 p.m. ET 5/17/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2016.
Nathaniel J. Davis, Sr.,
Deputy Secretary.

[FR Doc. 2016-10256 Filed 5-2-16; 8:45 am]

BILLING CODE 6717-01-P